OFFICE OF THE UNITED STATES TRADE REPRESENTATIVE

Special Provincial Review of Intellectual Property Rights Protection in China: Request for Public Comment

AGENCY: Office of the United States Trade Representative.

ACTION: Request for written submissions from the public.

SUMMARY: In its Special 301 Report issued on April 28, 2006, USTR announced plans to conduct a special provincial review (SPR) of intellectual property rights protection in China. As the first step in this review, USTR requests written comments from the public concerning the locations and issues that should be the focus of the SPR.

DATES: Submissions must be received on or before 5 p.m. on Friday, July 14, 2006.

ADDRESS: All comments should be addressed to Sybia Harrison, Special Assistant to the Section 301 Committee, and sent (i) electronically, to the following e-mail address: FR0621@ustr.eop.gov, with “China Special Provincial Review” in the subject line, or (ii) by fax, to (202) 395-9458, with a confirmation copy sent electronically to the e-mail address above.

FOR FURTHER INFORMATION CONTACT: Stanford K. McCoy, Office of Intellectual Property, at (202) 395-4510.

SUPPLEMENTARY INFORMATION: On April 28, 2006, USTR released its annual Special 301 report pursuant to Section 182 of the Trade Act of 1974, as amended by the Omnibus Trade and Competitiveness Act of 1988 and the Uruguay Round Agreements Act (enacted in 1994). In that report, USTR announced that the United States would conduct a special provincial review in the coming year to examine the adequacy and effectiveness of China's IPR protection and enforcement at the provincial level. The goal of this review is to spotlight strengths, weaknesses, and inconsistencies in and among specific jurisdictions, and to inform next year's Special 301 review of China as a whole.

USTR is now commencing the China SPR by seeking public comments on the locations and issues that should be reviewed. The information received will be used to set initial priorities for the review and ensure that the most important locations and issues receive appropriate attention. Before concluding the review, USTR plans to seek more detailed public comments on the adequacy and effectiveness of IPR protection and enforcement at the provincial level in China.

USTR proposes to focus the SPR on the locations in China that are most economically significant for U.S. right holders, or which merit special attention for other reasons. USTR seeks public comments on the specific provinces and other jurisdictions at the provincial level that should be the focus of the SPR. For purposes of this review, jurisdictions at the provincial level may include, in addition to China's provinces (sheng), the four the municipalities (shi) of Beijing, Chongqing, Shanghai, and Tianjin, as well as China's five autonomous regions (zizhiqu). Persons submitting comments should identify specific provinces, municipalities, and/or autonomous regions and give reasons why they should be reviewed in the SPR.

Within each province, municipality, or autonomous region that is included in the review, USTR proposes to examine the issues and locations of greatest interest to U.S. right holders. USTR therefore requests that, with respect to each province, municipality, and/or autonomous region recommended for inclusion in the SPR, commenters identify with particularity any key locations or issues that merit attention. Key locations could include, for example, particular regions, cities, towns, districts, sub-districts, or markets. Key issues could include, for example, counterfeiting or piracy of particular types of products in a particular location, or factors that affect the ability to enforce particular rights (e.g., positive or negative aspects of local policy, legislation, or resources). Commenters should bear in mind that the goals of the SPR include highlighting strengths, as well as weaknesses and inconsistencies, in and among specific jurisdictions. Strengths could include, for example, taking ex officio action on behalf of, and providing fair treatment for, foreign right holders, or local measures that facilitate IPR enforcement. USTR welcomes suggestions for activities, such as visits or meetings, that would contribute to a full examination of the issues and locations of greatest interest to U.S. right holders.

Among other locations to be considered for inclusion in the SPR, USTR seeks comments on possible inclusion of the four “hot spots” identified in the 2006 Special 301 Report: Guangdong Province, Beijing City, Zhejiang Province, and Fujian Province. USTR noted an apparent acute need for authorities in these areas to more effectively establish and sustain proactive, deterrent IPR enforcement. The China section of the 2006 Special 301 Report (available on USTR's Web site at http://www.ustr.gov) identifies certain issues and locations of concern in Guangdong, Beijing, Zhejiang, and Fujian.

Finally, USTR encourages interested persons to monitor progress with respect to significant locations and issues at China's provincial level over the remainder of the year. As noted above, USTR plans to seek more detailed public comments before concluding the SPR.

Requirements for Comments: Comments should be brief, and should respond to the requests in this notice.

Comments must be in English. No submissions will be accepted via postal service mail. Documents should be submitted as either WordPerfect, MS Word, or text (.TXT) files. Supporting documentation submitted as spreadsheets is acceptable as Quattro Pro or Excel files. A submitter requesting that information contained in a comment be treated as confidential business information must certify that such information is business confidential and would not customarily be released to the public by the submitter. A non-confidential version of the comment must also be provided. For any document containing business confidential information, the file name of the business confidential version should begin with the characters “BC-”, and the file name of the public version should begin with the character “P-”. The “P-” or “BC-” should be followed by the name of the submitter. Submissions should not include separate cover letters; information that might appear in a cover letter should be included in the submission itself. To the extent possible, any attachments to the submission should be included in the same file as the submission itself, and not as separate files.

All comments should be addressed to Sybia Harrison, Special Assistant to the Section 301 Committee, and sent (i) electronically, to the following e-mail address: FR0621@ustr.eop.gov, with “China Special Provincial Review” in the subject line, or (ii) by fax, to (202) 395-9458, with a confirmation copy sent electronically to the e-mail address above.

Public Inspection of Submissions: Within one business day of receipt, non-confidential submissions will be placed in a public file, open for inspection at the USTR reading room, Office of the United States Trade Representative, Annex Building, 1724 F Street, NW., Room 1, Washington, DC. An appointment to review the file must be scheduled at least 48 hours in advance and may be made by calling Jacqueline Caldwell at (202) 395-6186. The USTR reading room is open to the public from 10 a.m. to 12 noon and from 1 p.m. to 4 p.m., Monday through Friday.

Victoria Espinel,
Assistant USTR for Intellectual Property.

[FR Doc. E6-9498 Filed 6-15-06; 8:45 am]

BILLING CODE 3190-W6-P